DEPARTMENT OF JUSTICE

Antitrust Division

Notice Pursuant to the National Cooperative Research and Production Act of 1993—National Spectrum Consortium

Notice is hereby given that, on April 13, 2022, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Altair Engineering, Inc., Troy, MI; AlphaPixel LLC, Evergreen, CO; ARD Global LLC, Vienna, VA; Ascension Engineering Group LLC, Colorado Springs, CO; Aurotech LLC, Silver Spring, MD; AVATAR Partners, Inc., Irvine, CA; Ballast LLC, Woodinville, WA; Baker Street Scientific, Inc., Marietta, GA; By Light Professional IT Services LLC, McLean, VA; Caliola Engineering LLC, Colorado Springs, CO; Coda Octopus Colmek, Murray, UT; COLSA Corporation, Huntsville, AL; Comcast Cable Communications LLC, Philadelphia, PA; Cyberspace Solutions LLC dba Illuminate Mission Solutions, Herndon, VA; Everactive,Inc., Santa Clara, CA; Expedition Technology, Inc., Herndon, VA; Futures Action Network LLC, New York, NY; G3 Technologies, Inc., Columbia, MD; General Atomics Aeronautical Systems, Inc., Poway, CA; Genesis Consulting Solutions LLC, Waldorf, MD; Google LLC, Mountain View, CA; HII Technical Solutions Corp, Virginia Beach, VA; I2T SME Global LLC, Austin, TX; iCallidus, Inc., Columbia, MD; Insight Public Sector, Goose Creek, SC; Kopis Mobile LLC, Flowood, MS; Kratos SRE, Inc., San Diego, CA; Kryptowire LLC, McLean, VA; Kyrus Tech, Inc., Sterling, VA; Lane LLC/Laine Technologies, Goose Creek, SC; Ligado Networks LLC, Reston, VA; Mainstream Engineering Corp., Rockledge, FL; Marvell Government Solutions LLC, Burlington, VT; Microstrategy, Tysons, VA; PeopleTec, Inc., Huntsville, AL; Orolia Government Systems, Inc, Rochester, NY; Qualcomm Technologies, Inc., San Diego, CA; Quantum Xchange, Inc., Bethesda, MD; RADA Technologies LLC, Germantown, MD; Red Balloon Security, New York, NY; Ribbon Communications, Plano, VA; Saab, Inc., East Syracuse, NY; PTC, Boston, MA; Spectrum Effect, Inc., Kirkland, WA; Tapestry Solutions, Inc. San Diego, CA; Splunk, Inc., San Francisco, CA; The Nomad Group LLC dba Nomadics, Morristown, NJ; Tiami LLC, Elk Grove, CA; Tyto Athene LLC, Herndon, VA; University of California, Irvine, Irvine, CA; VARIABLECONSTANT LLC, Arlington, VA; Vectrona LLC, Virginia Beach, VA; Veritech LLC, Glendale, AZ; and Xtremis LLC, Washington, DC, have been added as parties to this venture.

Also, Aegis Systems, Inc., New York, NY; AirV Labs, Inc., Champaign, IL; Amentum Services, Inc., Germantown, MD; AnTrust, Columbia, MD; Artesion, Inc., Tacoma, WA; AVT Simulation, Orlando, FL; Blue Danube Systems, Inc., Santa Clara, CA; BTAS, Inc., Beavercreek, OH; CesiumAstro, Austin, TX; CGI Federal, Inc., Fairfax, VA; Cirrus360 LLC, Richardson, TX; CNF Technologies, San Antonio, TX; Comsearch, Ashburn, VA; Concurrent Technologies Corporation, Johnstown, PA; Conductive Composites Company, Heber City, UT; Connected Devices LLC, Chapel Hill, NC; Device Solutions, Inc., Hillsborough, NC; Edaptive Computing, Inc., Dayton, OH; Envistacom LLC, Atlanta, GA; Ewing Engineered Solutions, Allen, TX; DT Professional Services LLC, Canoga Park, CA; GATR Technologies, Huntsville, AL; General Dynamics Information Technology, Inc., Falls Church, VA; General Radar Corporation, Belmont, CA; GenOne Technologies LLC, Cambridge, MA; Gonzaga University, Spokane, WA; Granite Telecommunications LLC, Mclean, VA; Hanwha International LLC, Arlington, VA; IFS North America, Inc., Chicago, IL; Innovative Power LLC, Sterling, VA; iPosi, Inc., Denver, CO; James River Design and Manufacturing LLC, North Chesterfield, VA; Kutta Technologies, Inc., Phoenix, AZ; L3 Technologies, San Diego, CA; Knowledge Management, Inc., Tyngsboro, MA; M3 Defense Consulting LLC, Sterling Heights, MI; L3 Technologies, Inc. Communications Systems—East, Camden, NJ; Lumen Tech, Herndon, VA, Medivis, Inc.; MedCognition, Inc, San Antonio, TX; Medivis, Inc. New York, NY; Metawave Corporation, Carlsbad, CA; MedCognition, Inc., San Antonio, TX; MicroStrategy, Tysons, VA; Mobilestack, Inc., Dublin, CA; NetObjex, Inc., Santa Ana, CA; NetNumber, Inc., Lowell, MA; Northern Arizona University, Flagstaff, AZ; Novaa, Ltd Dublin, OH; NxGen Partners Manager LLC, Dallas, TX; NVIDIA Corporation, Santa Clara, CA; OmniMesh Technologies, Inc., Syracuse, NY; ORSA Technologies LLC, Sierra Vista, AZ; Pacific Antenna Systems LLC, Camarillo, CA; PAE Applied Technologies, Fort Worth, TX; Peraton, Inc., Herndon, VA; Pennsylvania State University-Applied Research Laboratory, State College, PA; Pn Automation, Inc., Haltehorpe, MD; PlusN LLC, Elmsford, NY; Prizm XR, Inc., Cold Spring, NY; Rafael Systems Global Sustainment LLC, Bethesda, MD; Ravenswood Solutions, Fremont, CA; Red Hat Professional Consulting, Inc., Raleigh, NC; ReFirm Labs, Inc., Fulton MD; Resonant Sciences LLC, Dayton, OH; Rivada Networks LLC, Colorado Springs, CO; SIEGE Technologies, Chantilly, VA; Spectral Labs Incorporated, San Diego, CA; SRC,Inc., N. Syracuse, NY; Strategic Data Systems, Inc., Keller, TX; Stratom, Inc., Boulder, CO; Synoptic Engineering LLC, Arlington, VA; Summation Research, Inc. Melbourne, FL; Taurean General Services, Inc., Boerne, TX; The Kenjya-Trusant Group LLC, Columbia, MD; Thinklogical LLC, Milford, CT; Tilson Technology Management, Inc., Portland, ME; Titan Systems LLC, Lexington Park, MD; Trilogy Networks, Boulder, CO; The University of Texas at Dallas, Richardson, TX; Trex Enterprises Corporation San Diego, CA; Two Six Labs LLC, Arlington, VA; UI Labs dba MxD USA, Chicago, IL; Undergrid Networks, Inc., Atlanta, GA; University at Buffalo, Amherst, NY; University of Illinois, Urbana IL; University of Oklahoma, Normon, OK; University of Washington, Seattle, WA; Vision Engineering Solutions, Inc., Merritt Island, FL; Waterleaf International LLC, Fort Myers, FL; and Wyle Laboratories, Inc., Huntsville, AL, have withdrawn as parties to this venture.

No other changes have been made in either the membership or planned activity of the group research project. Membership in this group research project remains open, and NSC intends to file additional written notifications disclosing all changes in membership.

On September 23, 2014, NSC filed its original notification pursuant to Section 6(a) of the Act. The Department of Justice published a notice in the Federal Register pursuant to Section 6(b) of the Act on November 4, 2014 (79 FR 65424).

The last notification was filed with the Department on July 2, 2021. A notice was published in the Federal Register pursuant to Section 6(b) of the Act on August 23, 2021 (86 FR 47157).

Suzanne Morris,
Chief, Premerger and Division Statistics, Antitrust Division.

[FR Doc. 2022-10236 Filed 5-11-22; 8:45 am]

BILLING CODE P